DEPARTMENT OF COMMERCE

National Institute of Standards and Technology

Technology Innovation Program Advisory Board

AGENCY: National Institute of Standards and Technology, Department of Commerce.

ACTION: Notice of public meeting.

SUMMARY: The Technology Innovation Program (TIP) Advisory Board will hold a meeting via teleconference on Tuesday, December 6, 2011, from 10 a.m. to 12 noon, Eastern time. The primary purpose of this meeting is to discuss the future of TIP. Interested members of the public will be able to participate in the meeting from remote locations by calling into a central phone number.

DATES: The TIP Advisory Board will hold a meeting via teleconference meeting on Tuesday, December 6, 2011, from 10 a.m. to 12 noon, Eastern time. The meeting will be open to the public. Interested parties may participate in the meeting from their remote location.

ADDRESSES: Questions regarding the meeting should be sent to the Technology Innovation Program Acting Deputy Director, National Institute of Standards and Technology, 100 Bureau Drive, MS 4700, Gaithersburg, Maryland 20899-8630. For instructions on how to participate in the meeting, please see the SUPPLEMENTARY INFORMATION section of this notice.

FOR FURTHER INFORMATION CONTACT: Dr. Robert Sienkiewicz, Acting Deputy Director, Technology Innovation Program National Institute of Standards and Technology, Gaithersburg, Maryland 20899-8630, telephone number (301) 975-2162. Dr. Sienkiewicz's email address is robert.sienkiewicz@nist.gov.

SUPPLEMENTARY INFORMATION: The Technology Innovation Program (TIP) Advisory Board was established in accordance with the requirements the America Creating Opportunities to Meaningfully Promote Excellence in Technology, Education, and Science (COMPETES) Act, Public Law 110-69 (August 9, 2007), 15 U.S.C. 278n, the legislation that created TIP. The Board is composed of ten members appointed by the Director of NIST who are eminent in such fields as business, research, science and technology, engineering, education, and management consulting. Background information on the TIP Advisory Board is available at: http://www.nist.gov/tip/.

Pursuant to the Federal Advisory Committee Act, 5 U.S.C. App., notice is hereby given that the TIP Advisory Board will hold a meeting via teleconference on Tuesday, December 6, 2011, from 10 a.m. to 12 noon, Eastern time. There will be no central meeting location. The public is invited to participate in the meeting by calling in from remote locations. The primary purpose of this meeting is to discuss the future of TIP.

Individuals and representatives of organizations who would like to offer comments are invited to request detailed instructions on how to dial in from a remote location to participate in the meeting. Approximately fifteen minutes will be reserved from 11:45-12:00 noon Eastern Standard Time for public comments, and speaking times will be assigned on a first-come, first-serve basis. The amount of time per speaker will be determined by the number of requests received, but is likely to be about 3 minutes each. Questions from the public will not be considered during this period. Speakers who wish to expand upon their oral statements, those who had wished to speak but could not be accommodated, and those who were unable to participate are invited to submit written statements to the Technology Innovation Program Advisory Board, Technology National Institute of Standards and Technology, 100 Bureau Drive, MS 4700, Gaithersburg, Maryland 20899-8630, via fax (301) 975-1150, or electronically by email to rene.cesaro@nist.gov.

All persons wishing to participate in the meeting are required to pre-register to be admitted. Anyone wishing to participate must register by close of business Monday, December 5, 2011, in order to be admitted. Please submit your name, time of participation, email address, and phone number to Rene S. Cesaro. At the time of registration, participants will be provided with detailed instructions on how to dial in from a remote location in order to participate. Rene Cesaro's email address is rene.cesaro@nist.gov and her phone number is (301) 975-2162.

Dated: November 10, 2011.
Phillip Singerman,
Associate Director for Innovation and Industry Services.

[FR Doc. 2011-29651 Filed 11-15-11; 8:45 am]

BILLING CODE 3510-13-P